DEPARTMENT OF AGRICULTURE

Farm Service Agency

[Docket ID FSA-2023-0025]

Continuation of Farm Service Agency's Conservation Reserve Program

AGENCY: Farm Service Agency, USDA.

ACTION: Notice; extension of authorization.

SUMMARY: The Further Continuing Appropriations and Other Extensions Act, 2024, extended the authorization of the Agricultural Improvement Act of 2018 (2018 Farm Bill), through September 30, 2024, for the Conservation Reserve Program (CRP), a Commodity Credit Corporation (CCC) program administered by the Farm Service Agency (FSA). This notice provides information about CRP, which has been extended until September 30, 2024. CRP will be administered by and through its current terms and procedures.

FOR FURTHER INFORMATION CONTACT: Beverly Preston; telephone: (202) 720-9563; email: Beverly.Preston@usda.gov. Individuals who require alternative means for communication should contact the USDA Target Center at (202) 720-2600 (voice and text telephone (TTY)) or dial 711 for Telecommunications Relay service (both voice and text telephone users can initiate this call from any telephone).

SUPPLEMENTARY INFORMATION:

CRP

The Further Continuing Appropriations and Other Extensions Act, 2024 (Pub. L. 118-22) maintains the CRP enrollment cap at the 27-million-acre level for FY 2024, unchanged from the 2018 Farm Bill. Current CRP enrollment is 24.8 million acres. CRP's purpose continues to be to cost-effectively assist producers in conserving and improving natural resources, restoring environmentally sensitive land by converting it to long-term vegetative cover, and improving the health of grasslands. Producers may enroll in CRP's annual general and grassland signups. They may also enroll environmentally sensitive land through CRP's continuous signups. A continuous signup includes lands enrolled through the Conservation Reserve Enhancement Program (CREP), which allows States, Tribal governments, and nongovernmental organizations (NGO) to partner with FSA to implement CRP practices that address high priority conservation and environmental objectives at specific locations. The dates producers may begin offering new CRP contracts will be announced through the normal news release process.

Transition Incentives Program

The Transition Incentives Program (TIP) was extended through September 30, 2024, with no changes. The Inflation Reduction Act of 2022 (Pub. L. 117-169) made additional funds available until September 30, 2031, unless any future amendatory legislation specifies another date. TIP incentivizes the voluntary transition of land enrolled in an expiring CRP contract from its current landowner or operator to a veteran, beginning, or socially disadvantaged (SDA) farmer or rancher to return the land to production for sustainable grazing or crop production in a way that preserves established conservation practices.

Eligible landowners and operators, veteran, beginning, or SDA farmers and ranchers may enroll in TIP on a continuous basis beginning 2 years before the CRP contract expires. Landowners or operators who qualify for TIP may be eligible to receive additional annual rental payments for up to 2 additional years after the CRP contract expires.

Forest Management Incentive

The Forest Management Incentive (FMI) was extended through September 30, 2024, with no change. The Inflation Reduction Act of 2022 (Pub. L. 117-169) made additional funds available until September 30, 2031, unless any future amendatory legislation specifies another date. FMI is available to farmers, ranchers, and forest landowners currently participating in CRP to encourage management activities such as thinning and pruning of trees, which are used to provide conservation covers.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency.

[FR Doc. 2024-04288 Filed 2-29-24; 8:45 am]

BILLING CODE 3411-E2-P